DEPARTMENT OF TRANSPORTATION

Federal Aviation Administration

14 CFR Part 39

[Docket No. FAA-2013-0328; Directorate Identifier 2012-NM-184-AD; Amendment 39-17643; AD 2013-22-11]

RIN 2120-AA64

Airworthiness Directives; The Boeing Company Airplanes

AGENCY: Federal Aviation Administration (FAA), DOT.

ACTION: Final rule.

SUMMARY: We are superseding Airworthiness Directive (AD) 2009-10-06 for certain The Boeing Company Model 747-400 and -400D series airplanes. AD 2009-10-06 required repetitive inspections to detect cracks in the floor panel attachment fastener holes of the Section 41 upper deck floor beam upper chords, and corrective actions if necessary; and repetitive post-repair and post-modification inspections, and corrective actions if necessary. This new AD adds repetitive inspections of Section 44 upper deck floor beam upper chords, and corrective actions if necessary; repetitive post-repair and post-modification inspections, and corrective actions if necessary; and replacement of the upper deck floor beam upper chords. This AD was prompted by an evaluation by the design approval holder (DAH) indicating that certain upper chords of the upper deck floor beam are subject to widespread fatigue damage (WFD). We are issuing this AD to detect and correct fatigue cracking in certain upper chords of the upper deck floor beam, which could become large and cause the floor beams to become severed and result in rapid decompression or reduced controllability of the airplane.

DATES: This AD is effective December 10, 2013.

The Director of the Federal Register approved the incorporation by reference of a certain publication listed in this AD as of December 10, 2013.

The Director of the Federal Register approved the incorporation by reference of a certain other publication listed in this AD as of June 17, 2009 (74 FR 22424, May 13, 2009).

ADDRESSES: For service information identified in this AD, contact Boeing Commercial Airplanes, Attention: Data & Services Management, P.O. Box 3707, MC 2H-65, Seattle, WA 98124-2207; telephone 206-544-5000, extension 1; fax 206-766-5680; Internet https://www.myboeingfleet.com. You may view this referenced service information at the FAA, 1601 Lind Avenue SW., Renton, WA. For information on the availability of this material at the FAA, call 425-227-1221.

Examining the AD Docket

You may examine the AD docket on the Internet at http://www.regulations.gov; or in person at the Docket Management Facility between 9 a.m. and 5 p.m., Monday through Friday, except Federal holidays. The AD docket contains this AD, the regulatory evaluation, any comments received, and other information. The address for the Docket Office (phone: 800-647-5527) is Document Management Facility, U.S. Department of Transportation, Docket Operations, M-30, West Building Ground Floor, Room W12-140, 1200 New Jersey Avenue SE., Washington, DC 20590.

FOR FURTHER INFORMATION CONTACT: Bill Ashforth, Aerospace Engineer, Airframe Branch, ANM-120S, FAA, Seattle ACO, 1601 Lind Avenue SW., Renton, WA 98057-3356; phone: 425-917-6432; fax: 425-917-6590; email: bill.ashforth@faa.gov.

SUPPLEMENTARY INFORMATION:

Discussion

We issued a notice of proposed rulemaking (NPRM) to amend 14 CFR part 39 to supersede AD 2009-10-06, Amendment 39-15901 (74 FR 22424, May 13, 2009). AD 2009-10-06 applied to the specified products. The NPRM published in the Federal Register on April 16, 2013 (78 FR 22435). The NPRM proposed to continue to require repetitive inspections to detect cracks in the floor panel attachment fastener holes of the Section 41 upper deck floor beam upper chords, and corrective actions if necessary; and repetitive post-repair and post-modification inspections, and corrective actions if necessary. The NPRM also proposed to add repetitive inspections of Section 44 upper deck floor beam upper chords, and corrective actions if necessary; repetitive post-repair and post-modification inspections, and corrective actions if necessary; and replacement of the upper deck floor beam upper chords.

Comments

We gave the public the opportunity to participate in developing this AD. The following presents the comments received on the proposal (78 FR 22435, April 16, 2013) and the FAA's response to each comment.

Request To Eliminate Duplicate Reference to Post-Repair and Post-Modification Repetitive Inspections

Boeing requested that we delete the reference to post-repair and post-modification repetitive inspections from paragraph (g) of the NPRM (78 FR 22435, April 16, 2013). Boeing stated that the post-repair and post-modification inspections are required by paragraph (i) of the NPRM, and need to be deleted from paragraph (g) of the NPRM to avoid confusion.

We agree to remove the duplicate reference to post-repair and post-modification repetitive inspections from paragraph (g) of this final rule. We have changed paragraph (g) of this final rule accordingly.

Request To Revise the Heading and Clarify Paragraph (k) of the NPRM (78 FR 22435, April 16, 2013)

Boeing requested that we revise the heading of paragraph (k) of the NPRM (78 FR 22435, April 16, 2013) to clarify that the modification specified in Table 2 of paragraph 1.E., “Compliance,” of Boeing Service Bulletin 747-53A2688, Revision 1, dated September 19, 2012, is not new and is not fully terminating. Boeing also requested that we add text concerning terminating inspections required by paragraphs (g) and (j) of the NPRM, and also for the resumption of inspections required by paragraphs (i) and (l) of the NPRM.

We agree with the request. We have revised the heading of paragraph (k) of this final rule to “New Terminating Action for Certain Conditions.” We also agree with adding text to paragraph (k) of this final rule to clarify which modifications or repairs as modifications terminate which inspections required by this final rule. We have revised paragraph (k) of this final rule to add new paragraph (k)(1) to this final rule to specify that, for Section 41, doing a hole modification or repair as a hole modification, in accordance with “Part 2—Section 41—Repair,” of the Accomplishment Instructions of Boeing Alert Service Bulletin 747-53A2688, Revision 1, dated September 19, 2012, terminates the repetitive inspections specified in paragraph (g) of this final rule. We have also included clarification in paragraph (k)(1) of this final rule to indicate that the repetitive inspections specified in paragraph (i) of this final rule must be done.

We have also moved the content of paragraph (k) of the NPRM (78 FR 22435, April 16, 2013) to new paragraph (k)(2) of this final rule to specify that, for Section 44, doing a hole modification or repair as a hole modification, in accordance with “Part 5—Section 44—Repair,” of the Accomplishment Instructions of Boeing Alert Service Bulletin 747-53A2688, Revision 1, dated September 19, 2012, terminates the repetitive inspections specified in paragraph (j) of this final rule. We have also included clarification in paragraph (k)(2) of this final rule to indicate that the repetitive inspections specified in paragraph (l) of this final rule must be done.

Request To Restart Inspections After Replacement of Upper Deck Floor Beam Upper Chords

Boeing requested that we revise paragraph (m) of the NPRM (78 FR 22435, April 16, 2013) to add a note concerning the new inspection threshold, equal to the original threshold, to restart inspections after replacement of the upper deck floor beam upper chords. Boeing stated that paragraph (m) of the NPRM requires the replacement of upper deck floor beam upper chords in Sections 41 and 44, as given in Table 5 of Boeing Service Bulletin 747-53A2688, Revision 1, dated September 19, 2012. Boeing stated that the new inspection threshold needs to be provided in paragraph (m) of this NPRM.

We agree with the request to include a relieving compliance time for the inspections required by this final rule for airplanes on which the upper deck floor beam upper chords are replaced. Paragraphs (g), (i), (j), and (l) of this final rule require repetitive inspections at the applicable times specified in Tables 1 through 4 of paragraph 1.E., “Compliance,” of Boeing Service Bulletin 747-53A2688, Revision 1, dated September 19, 2012. However, Boeing Service Bulletin 747-53A2688, Revision 1, dated September 19, 2012, does not specify that accomplishing the replacement terminates the repetitive inspections, nor does it provide a longer compliance time for the next inspection done after accomplishing the replacement. We also agree that the next inspection after accomplishing the replacement may be done within 20,000 flight cycles. We have determined that this compliance time will provide an adequate level of safety. We have revised paragraph (m) of this final rule to add the first interval for the repetitive inspections required by this final rule for airplanes on which a replacement required by paragraph (m) of this final rule is done.

Request To Add References to Paragraph (n)(1) of the NPRM (78 FR 22435, April 16, 2013)

Boeing requested that we revise paragraph (n)(1) of the NPRM (78 FR 22435, April 16, 2013) to refer to paragraphs (j) and (l) of the NPRM. Boeing stated that since paragraph (n) of the NPRM is referring to new exceptions, it should refer to cracks found as part of the new inspections specified in paragraph (i), (j), or (l) of the NPRM (reference Compliance Tables 2, 3, or 4 of Boeing Service Bulletin 747-53A2688, Revision 1, dated September 19, 2012).

We partially agree with the request. We have added a reference to paragraph (j) of this final rule in paragraph (n)(1) of this final rule. Paragraph (j) of this final rule already references paragraph (n)(1) of this final rule as an exception. However, we do not agree to add a reference to paragraph (l) of this final rule in paragraph (n)(1) of this final rule, because paragraph (l) of this final rule does not include a reference to the service information for the corrective action. Paragraph (l) of this final rule specifies to refer to the procedures in paragraph (p) of this final rule for airplanes on which any cracking is found.

Request To Allow Boeing Organization Designation Authorization (ODA) Approval

Boeing requested we revise paragraph (n)(3) of the NPRM (78 FR 22435, April 16, 2013) to allow the full provisions of Boeing ODA approval. Boeing stated that alternative method of compliance (AMOC) approval provisions allowed in paragraph (p) of the NPRM should apply to all sections of the NPRM.

We disagree. Paragraph (p)(3) of this final rule already allows for ODA approval of repairs. We have not changed this final rule in this regard. However, we have revised paragraph (n)(3) of this final rule to clarify where the service information specifies to contact the FAA, operators must contact the Seattle Aircraft Certification Office (ACO).

Conclusion

We reviewed the relevant data, considered the comments received, and determined that air safety and the public interest require adopting this AD with the changes described previously except for minor editorial changes. We have determined that these minor changes:

• Are consistent with the intent that was proposed in the NPRM (78 FR 22435, April 16, 2013) for correcting the unsafe condition; and

• Do not add any additional burden upon the public than was already proposed in the NPRM (78 FR 22435, April 16, 2013).

We also determined that these changes will not increase the economic burden on any operator or increase the scope of this AD.

Costs of Compliance

We estimate that this AD affects 84 airplanes of U.S. registry. We estimate the following costs to comply with this AD:

Estimated Costs
Action | Labor cost | Parts cost | Cost per product | Cost on U.S. operators
Inspection (retained actions from AD 2009-10-06, Amendment 39-15901 (74 FR 22424, May 13, 2009)) | Up to 50 work-hours × $85 per hour = Up to $4,250 per inspection cycle | $0 | Up to $4,250 per inspection cycle | Up to $357,000 per inspection cycle.
Inspection (new action) | 259 work-hours × $85 per hour = $22,015 per inspection cycle | 0 | $22,015 per inspection cycle | $1,849,260 per inspection cycle.

We have received no definitive data that would enable us to provide a cost estimate for the repair or modification specified in this AD.

Authority for This Rulemaking

Title 49 of the United States Code specifies the FAA's authority to issue rules on aviation safety. Subtitle I, Section 106, describes the authority of the FAA Administrator. Subtitle VII, Aviation Programs, describes in more detail the scope of the Agency's authority.

We are issuing this rulemaking under the authority described in Subtitle VII, Part A, Subpart III, Section 44701, “General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We have determined that this AD will not have federalism implications under Executive Order 13132. This AD will not have a substantial direct effect on the States, on the relationship between the national government and the States, or on the distribution of power and responsibilities among the various levels of government.

For the reasons discussed above, I certify that this AD:

(1) Is not a “significant regulatory action” under Executive Order 12866,

(2) Is not a “significant rule” under DOT Regulatory Policies and Procedures (44 FR 11034, February 26, 1979),

(3) Will not affect intrastate aviation in Alaska, and

(4) Will not have a significant economic impact, positive or negative, on a substantial number of small entities under the criteria of the Regulatory Flexibility Act.

List of Subjects in 14 CFR Part 39

Air transportation, Aircraft, Aviation safety, Incorporation by reference, Safety.

Adoption of the Amendment

Accordingly, under the authority delegated to me by the Administrator, the FAA amends 14 CFR part 39 as follows:

PART 39—AIRWORTHINESS DIRECTIVES

1. The authority citation for part 39 continues to read as follows:

Authority: 49 U.S.C. 106(g), 40113, 44701.

§ 39.13 [Amended]

2. The FAA amends § 39.13 by removing airworthiness directive (AD) 2009-10-06, Amendment 39-15901 (74 FR 22424, May 13, 2009), and adding the following new AD:

2013-22-11 The Boeing Company: Amendment 39-17643; Docket No. FAA-2013-0328; Directorate Identifier 2012-NM-184-AD.

(a) Effective Date

This AD is effective December 10, 2013.

(b) Affected ADs

This AD supersedes AD 2009-10-06, Amendment 39-15901 (74 FR 22424, May 13, 2009).

(c) Applicability

This AD applies to The Boeing Company Model 747-400 and -400D series airplanes; certificated in any category; as identified in Boeing Alert Service Bulletin 747-53A2688, Revision 1, dated September 19, 2012.

(d) Subject

Joint Aircraft System Component (JASC)/Air Transport Association (ATA) of America Code 53, Fuselage.

(e) Unsafe Condition

This AD was prompted by an evaluation by the design approval holder (DAH) indicating that certain upper chords of the upper deck floor beam are subject to widespread fatigue damage (WFD). We are issuing this AD to detect and correct fatigue cracking in certain upper chords of the upper deck floor beam, which could become large and cause the floor beams to become severed and result in rapid decompression or reduced controllability of the airplane.

(f) Compliance

Comply with this AD within the compliance times specified, unless already done.

(g) Retained Inspections and Corrective Actions With Revised Service Information and Compliance Times

This paragraph restates the actions required by paragraph (g) of AD 2009-10-06, Amendment 39-15901 (74 FR 22424, May 13, 2009), with revised service information and compliance times. Except as required by paragraphs (h)(1) and (h)(2) of this AD: At the applicable times in paragraph 1.E., “Compliance,” of Boeing Alert Service Bulletin 747-53A2688, dated August 21, 2008, do an inspection (open-hole or surface high frequency eddy current (HFEC)) to detect cracks in the floor panel attachment fastener holes of the Section 41 upper deck floor beam upper chords, and do applicable corrective actions, by accomplishing all the applicable actions specified in the Accomplishment Instructions of Boeing Alert Service Bulletin 747-53A2688, dated August 21, 2008; or Revision 1, dated September 19, 2012. Repeat the inspections thereafter at the applicable times specified in paragraph 1.E., “Compliance,” of Boeing Alert Service Bulletin 747-53A2688, dated August 21, 2008, except as required by paragraphs (i) and (m) of this AD. As of the effective date of this AD, use only Boeing Alert Service Bulletin 747-53A2688, Revision 1, dated September 19, 2012, to accomplish the actions in this paragraph.

(h) Retained Exceptions

(1) This paragraph restates the exception stated in paragraph (h) of AD 2009-10-06, Amendment 39-15901 (74 FR 22424, May 13, 2009). If any crack is found during any inspection required by paragraph (g) of this AD, and Boeing Alert Service Bulletin 747-53A2688, dated August 21, 2008; or Revision 1, dated September 19, 2012; specifies to contact Boeing for appropriate action: Before further flight, repair the crack using a method approved in accordance with the procedures specified in paragraph (p) of this AD.

(2) This paragraph restates the exception stated in paragraph (i) of AD 2009-10-06, Amendment 39-15901 (74 FR 22424, May 13, 2009). Where Boeing Alert Service Bulletin 747-53A2688, dated August 21, 2008, specifies a compliance time after the date on the service bulletin, this AD requires compliance within the specified compliance time after June 17, 2009 (the effective date of AD 2009-10-06).

(i) Inspections and Corrective Actions for Airplanes on Which a Repair or Modification Is Done (for Section 41)

For airplanes on which a repair or modification identified in Table 2 of 1.E., “Compliance,” of Boeing Alert Service Bulletin 747-53A2688, Revision 1, dated September 19, 2012, has been done: At the times specified in Table 2 of paragraph 1.E., “Compliance,” of Boeing Alert Service Bulletin 747-53A2688, Revision 1, dated September 19, 2012, except as required by paragraph (n)(3) of this AD, do open-hole and surface HFEC inspections, as applicable, for cracking, in accordance with the Accomplishment Instructions of Boeing Alert Service Bulletin 747-53A2688, Revision 1, dated September 19, 2012. Repeat at the applicable intervals specified in Table 2 of paragraph 1.E., “Compliance,” of Boeing Alert Service Bulletin 747-53A2688, Revision 1, dated September 19, 2012. If any cracking is found in the repaired or modified locations, before further flight, repair the crack using a method approved in accordance with the procedures specified in paragraph (p) of this AD.

(j) New Inspections and Repair

For Group 1 airplanes identified in Boeing Alert Service Bulletin 747-53A2688, Revision 1, dated September 19, 2012: At the applicable times specified in paragraph 1.E., “Compliance,” of Boeing Alert Service Bulletin 747-53A2688, Revision 1, dated September 19, 2012, except as specified in paragraph (n)(2) of this AD, do an open-hole or surface HFEC inspection to detect cracking in the floor panel attachment fastener holes of the Section 44 upper deck floor beam upper chords, and all applicable corrective actions, in accordance with the Accomplishment Instructions of Boeing Alert Service Bulletin 747-53A2688, Revision 1, dated September 19, 2012, except as required by paragraph (n)(1) of this AD. Repeat the inspections thereafter at the applicable intervals specified in paragraph 1.E., “Compliance,” of Boeing Alert Service Bulletin 747-53A2688, Revision 1, dated September 19, 2012, except as provided by paragraph (m) of this AD. Do all applicable corrective actions before further flight.

(k) New Terminating Action for Certain Conditions

(1) For Section 41: Doing a hole modification or repair as a hole modification, in accordance with “Part 2—Section 41—Repair,” of the Accomplishment Instructions of Boeing Alert Service Bulletin 747-53A2688, Revision 1, dated September 19, 2012, terminates the repetitive inspections specified in paragraph (g) of this AD. However, the repetitive inspections specified in paragraph (i) of this AD must be done.

(2) For Section 44: Doing a hole modification or repair as a hole modification, in accordance with “Part 5—Section 44—Repair,” of the Accomplishment Instructions of Boeing Alert Service Bulletin 747-53A2688, Revision 1, dated September 19, 2012, terminates the repetitive inspections specified in paragraph (j) of this AD. However, the repetitive inspections specified in paragraph (l) of this AD must be done.

(l) New Inspections and Corrective Actions for Airplanes on Which a Repair or Modification Is Done (for Section 44)

For airplanes on which a repair or modification specified in the “Condition” column of Table 4 of paragraph 1.E., “Compliance,” of Boeing Alert Service Bulletin 747-53A2688, Revision 1, dated September 19, 2012, has been done: At the times specified in Table 4 of paragraph 1.E., “Compliance,” of Boeing Alert Service Bulletin 747-53A2688, Revision 1, dated September 19, 2012, except as required by paragraph (n)(3) of this AD, do open hole and surface HFEC inspections, as applicable, for cracking, in accordance with the Accomplishment Instructions of Boeing Alert Service Bulletin 747-53A2688, Revision 1, dated September 19, 2012. Repeat at the applicable intervals specified in Table 4 of paragraph 1.E., “Compliance,” of Boeing Alert Service Bulletin 747-53A2688, Revision 1, dated September 19, 2012. If any cracking is found in the repaired or modified locations, before further flight, repair the crack using a method approved in accordance with the procedures specified in paragraph (p) of this AD.

(m) New Replacement and Post-Replacement Inspections

At the time specified in paragraph 1.E., “Compliance,” of Boeing Alert Service Bulletin 747-53A2688, Revision 1, dated September 19, 2012: Replace Section 41 and 44 upper deck floor beam upper chords, in accordance with the Accomplishment Instructions of Boeing Alert Service Bulletin 747-53A2688, Revision 1, dated September 19, 2012. Repeat the inspections required by paragraphs (g) and (j) of this AD within 20,000 flight cycles after doing the replacement. Thereafter, repeat the inspection required by paragraphs (g) and (j) of this AD at the times specified in paragraphs (g) and (j) of this AD.

(n) New Exceptions

(1) If any crack is found during any inspection required by paragraph (i), (j), or (l) of this AD, and Boeing Alert Service Bulletin 747-53A2688, Revision 1, dated September 19, 2012, specifies to contact Boeing for appropriate action: Before further flight, repair the crack using a method approved in accordance with the procedures specified in paragraph (p) of this AD.

(2) Where Boeing Alert Service Bulletin 747-53A2688, Revision 1, dated September 19, 2012, specifies a compliance time “after the Revision 1 date of this service bulletin,” this AD requires compliance within the specified compliance time after the effective date of this AD.

(3) Where Table 2 or Table 4 of paragraph 1.E., “Compliance,” of Boeing Alert Service Bulletin 747-53A2688, Revision 1, dated September 19, 2012, specifies to contact Boeing for inspections and compliance times: Before further flight, contact the Manager, FAA, Seattle Aircraft Certification Office (ACO), for inspections and compliance times and accomplish the inspections at the given times.

(o) Credit for Previous Actions

This paragraph provides credit for the actions required by paragraph (g) of this AD, if those actions were performed before the effective date of this AD using Boeing Alert Service Bulletin 747-53A2688, dated August 21, 2008.

(p) Alternative Methods of Compliance (AMOCs)

(1) The Manager, Seattle Aircraft Certification Office (ACO), FAA, has the authority to approve AMOCs for this AD, if requested using the procedures found in 14 CFR 39.19. In accordance with 14 CFR 39.19, send your request to your principal inspector or local Flight Standards District Office, as appropriate. If sending information directly to the manager of the ACO, send it to the attention of the person identified in paragraph (q)(1) of this AD. Information may be emailed to: 9-ANM-Seattle-ACO-AMOC-Requests@faa.gov.

(2) Before using any approved AMOC, notify your appropriate principal inspector, or lacking a principal inspector, the manager of the local flight standards district office/certificate holding district office.

(3) An AMOC that provides an acceptable level of safety may be used for any repair required by this AD if it is approved by the Boeing Commercial Airplanes Organization Designation Authorization (ODA) that has been authorized by the Manager, Seattle ACO, to make those findings. For a repair method to be approved, the repair must meet the certification basis of the airplane, and the approval must specifically refer to this AD.

(4) AMOCs approved for AD 2009-10-06, Amendment 39-15901 (74 FR 22424, May 13, 2009), are approved as AMOCs for the corresponding actions of this AD.

(q) Related Information

(1) For more information about this AD, contact Bill Ashforth, Aerospace Engineer, Airframe Branch, ANM-120S, FAA, Seattle ACO, 1601 Lind Avenue SW., Renton, WA 98057-3356; phone: 425-917-6432; fax: 425-917-6590; email: bill.ashforth@faa.gov.

(2) Service information that is not incorporated by reference in this AD may be obtained at the addresses identified in paragraph (r)(5) of this AD.

(r) Material Incorporated by Reference

(1) The Director of the Federal Register approved the incorporation by reference (IBR) of the service information listed in this paragraph under 5 U.S.C. 552(a) and 1 CFR part 51.

(2) You must use this service information as applicable to do the actions required by this AD, unless the AD specifies otherwise.

(3) The following service information was approved for IBR on December 10, 2013.

(i) Boeing Alert Service Bulletin 747-53A2688, Revision 1, dated September 19, 2012.

(ii) Reserved.

(4) The following service information was approved for IBR on June 17, 2009 (74 FR 22424, May 13, 2009).

(i) Boeing Alert Service Bulletin 747-53A2688, dated August 21, 2008.

(ii) Reserved.

(5) For service information identified in this AD, contact Boeing Commercial Airplanes, Attention: Data & Services Management, P.O. Box 3707, MC 2H-65, Seattle, WA 98124-2207; telephone 206-544-5000, extension 1; fax 206-766-5680; Internet https://www.myboeingfleet.com.

(6) You may view this service information at FAA, 1601 Lind Avenue SW., Renton, WA. For information on the availability of this material at the FAA, call 425-227-1221.

(7) You may view this service information that is incorporated by reference at the National Archives and Records Administration (NARA). For information on the availability of this material at NARA, call 202-741-6030, or go to: http://www.archives.gov/federal-register/cfr/ibr-locations.html.

Issued in Renton, Washington, on October 17, 2013.
Jeffrey E. Duven,
Acting Manager, Transport Airplane Directorate, Aircraft Certification Service.

[FR Doc. 2013-25950 Filed 11-4-13; 8:45 am]

BILLING CODE 4910-13-P